DEPARTMENT OF JUSTICE

Notice of Lodging of Consent Decree Under the Comprehensive Environmental Response, Compensation and Liability Act (CERCLA)

Notice is hereby given that on June 6, 2008, a proposed Consent Decree in United States et al. v. Albemarle Electric Membership Corp., et al., Civil Action No. 5:08-cv-00261-D (E.D.N.C.), was lodged with the United States District Court for the Eastern District of North Carolina.

In this action the United States and the State of North Carolina sought cost recovery under Section 107 of CERCLA, 42 U.S.C. 9607, against 27 defendants for costs relating to the release or threatened release of hazardous substances into the environment at or from the Carolina Transformer Superfund Site in Fayetteville, Cumberland County, North Carolina (“the Site”). The Consent Decree resolves the liability of the 27 named Defendants, 105 additional non-federal settling entities, and eight settling federal agencies. Under the proposed Consent Decree, the 132 non-federal settling parties (collectively termed “Settling Defendants”) would pay $9,286,461 to the United States Environmental Protection Agency (“EPA”) and $614,109.75 to the State; and the United States, on behalf of the settling federal agencies, would pay $3,095,487 to EPA and $204,703.25 to the State.

In the Decree, the United States would covenant not to sue or take administrative action against the Settling Defendants under Sections 106 and 107 of CERCLA, 42 U.S.C. 9606 and 9607, relating to the Site, subject to certain standard reopeners for new information or unknown conditions. In the Decree, the United States EPA would covenant not to take administrative action against the settling federal agencies under Sections 106 and 107 of CERCLA, 42 U.S.C. 9606 and 9607, relating to the Site, subject to certain standard reopeners for new information or unknown conditions. In the Decree, the State Plaintiff would release and agree not to sue or take administrative action against the Settling Defendants and the settling federal agencies pursuant to Section 107(a) of CERCLA, 42 U.S.C. 9607, or state law for past or future costs incurred by the State relating to the Site, subject to specific reservations included in the Decree.

The Department of Justice will receive for a period of thirty (30) days from the date of this publication comments relating to the proposed Consent Decree. Comments should be addressed to the Assistant Attorney General, Environment and Natural Resources Division, and either emailed to pubcomment-ees.enrd@usdoj.gov or mailed to P.O. Box 7611, U.S. Department of Justice, Washington, DC 20044-7611, and should refer to United States et al. v. Albemarle Electric Membership Corp., et al., D.J. Ref. 90-11-3-98/1.

The proposed Consent Decree may be examined at the United States Attorney's Office, 310 New Bern Avenue, Suite 800, Raleigh, NC 27601, and the United States Environmental Protection Agency, Region 4, 61 Forsyth Street, Atlanta, GA 30303. During the public comment period, the Consent Decree may also be examined on the following Department of Justice Web site, http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation no. (202) 514-1547. In requesting a copy from the Consent Decree Library, please enclose a check in the amount of $5.75 (25 cents per page reproduction cost) for a copy exclusive of signature pages and appendices, or $42.25 (25 cents per page reproduction cost) for a copy including signature pages and appendices payable to the “U.S. Treasury” or, if by e-mail or fax, forward a check in that amount to the Consent Decree Library at the stated address.

Maureen M. Katz,
Assistant Section Chief, Environmental Enforcement Section, Environment and Natural Resources Division.

[FR Doc. E8-13473 Filed 6-13-08; 8:45 am]

BILLING CODE 4410-15-P